DEPARTMENT OF ENERGY

Blue Ribbon Commission on America's Nuclear Future, Disposal Subcommittee

AGENCY: Department of Energy, Office of Nuclear Energy.

ACTION: Notice of open meeting.

SUMMARY: This notice announces an open meeting of the Disposal Subcommittee. The Disposal Subcommittee is a subcommittee of the Blue Ribbon Commission on America's Nuclear Future (the Commission). The establishment of subcommittees is authorized in the Commission's charter. The Commission was organized pursuant to the Federal Advisory Committee Act (Pub. L. No. 92-463, 86 Stat. 770) (the Act). This notice is provided in accordance with the Act.

DATES: Thursday, November 4, 2010 8:30 a.m.-1:15 p.m.

ADDRESSES: St. Regis Hotel, 923 16th Street and K Street, NW., Washington, DC, Telephone: (202) 638-2626.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information will be available at http://www.brc.gov.

SUPPLEMENTARY INFORMATION: Background: The President directed that the Commission be established to conduct a comprehensive review of policies for managing the back end of the nuclear fuel cycle. The Commission will provide advice and make recommendations on issues including alternatives for the storage, processing, and disposal of civilian and defense spent nuclear fuel and nuclear waste.

The Co-chairs of the Commission requested the formation of the Disposal Subcommittee to answer the question: “[h]ow can the U.S. go about establishing one or more disposal sites for high-level nuclear wastes in a manner that is technically, politically and socially acceptable?”

Purpose of the Meeting: The main focus of the meeting will be on lessons learned from past site evaluation processes (both the Waste Isolation Pilot Plant and Yucca Mountain) and other issues. The utilities perspective on implementation of the Nuclear Waste Policy Act will also be explored.

Tentative Agenda: The meeting is expected to start at 8:30 a.m. on November 4, 2010 with panel presentations beginning at 8:45 and ending at 12:30 p.m. with a public comment period from 12:30 p.m. through 1:15 p.m.

Public Participation: Subcommittee meetings are not required to be open to the public; however, the Commission has elected to open the presentation sessions of the meeting to the public. Individuals and representatives of organizations who would like to offer comments and suggestions may do so at the end of the public session on Thursday, November 4, 2010. Approximately 45 minutes will be reserved for public comments from 12:30 p.m. to 1:15 p.m. Time allotted per speaker will depend on the number who wish to speak but will not exceed 5 minutes. The Designated Federal Officer is empowered to conduct the meeting in a fashion that will facilitate the orderly conduct of business. Those wishing to speak should register to do so beginning at 8 a.m. on November 4, 2010, at the St. Regis Hotel. Registration to speak will close at noon, November 4, 2010.

Those not able to attend the meeting or have insufficient time to address the subcommittee are invited to send a written statement to Timothy A. Frazier, U.S. Department of Energy 1000 Independence Avenue, SW., Washington, DC 20585, e-mail to CommissionDFO@nuclear.energy.gov, or post comments on the Commission Web site at http://www.brc.gov.

Additionally, the meeting will be available via live video webcast. The link will be available at http://www.brc.gov.

Minutes: The minutes of the meeting will be available at http://www.brc.gov or by contacting Mr. Frazier. He may be reached at the postal address or e-mail address above.

Issued in Washington, DC, on October 20, 2010.
Rachel Samuel,
Deputy Committee Management Officer.

[FR Doc. 2010-26860 Filed 10-22-10; 8:45 am]

BILLING CODE 6450-01-P